DEPARTMENT OF AGRICULTURE

Animal and Plant Health Inspection Service

7 CFR Part 302

[Docket No. 00-085-2]

District of Columbia; Movement of Plants and Plant Products

AGENCY: Animal and Plant Health Inspection Service, USDA.

ACTION: Final rule.

SUMMARY: We are adopting as a final rule, with one change, an interim rule that established regulations concerning the application for and issuance of certificates for the interstate movement of plants and plant products from the District of Columbia. The certificates provided for by the interim rule address the plant health status of plants and plant products moving interstate from the District of Columbia. In this final rule, we are revising the contact information for persons seeking certification in order to facilitate the application for certificates.

EFFECTIVE DATE: October 30, 2001.

FOR FURTHER INFORMATION CONTACT: Mr. Jonathan Jones, Operations Officer, Invasive Species and Pest Management, PPQ, APHIS, 4700 River Road Unit 134, Riverdale, MD 20737-1236; (301) 734-8247.

SUPPLEMENTARY INFORMATION:

Background

In an interim rule effective and published in the Federal Register on January 5, 2001 (66 FR 1015-1016, Docket No. 00-085-1), we established regulations in 7 CFR part 302 concerning the application for and issuance of certificates for the interstate movement of plants and plant products from the District of Columbia. The interim rule was necessary to facilitate the interstate movement of plants and plant products from the District of Columbia.

We solicited comments concerning the interim rule for 60 days ending March 6, 2001. We did not receive any comments.

However, in this document, we are revising the contact information for persons seeking certification. In the interim rule, we designated the Plant Protection and Quarantine (PPQ) office at the Port of Baltimore, MD, as the point of contact for persons interested in obtaining District of Columbia Plant Health Certificates. We have determined that the PPQ State Plant Health Director's office in Annapolis, MD, is in a better position to serve the needs of persons requiring the inspection and certification provided for by the regulations. Accordingly, in this final rule we are revising § 302.2 to designate the Annapolis, MD, PPQ office as the point of contact for persons seeking certification.

Therefore, for the reasons given in the interim rule and in this document, we are adopting the interim rule as a final rule, with the change discussed in this document.

This final rule also affirms the information contained in the interim rule concerning Executive Orders 12372 and 12988 and the economic analysis under Executive Order 12866 and the Regulatory Flexibility Act.

This rule has been reviewed under Executive Order 12866. For this action, the Office of Management and Budget has waived the review process required by Executive Order 12866.

Effective Date

Pursuant to the administrative procedure provisions in 5 U.S.C. 553, we find good cause for making this rule effective less than 30 days after publication in the Federal Register. The interim rule adopted as final by this rule was effective on January 5, 2001. This final rule revises the point of contact for obtaining inspection or documentation of the plant health status of plants or plant products to be moved interstate from the District of Columbia. Immediate action is necessary to revise the contact information in order to facilitate the application for certificates for the interstate movement of plants and plant products from the District of Columbia. Therefore, the Administrator of the Animal and Plant Health Inspection Service has determined that this rule should be effective upon publication in the Federal Register.

Paperwork Reduction Act

In accordance with section 3507 (j) of the Paperwork Reduction Act of 1995 (44 U.S.C. 3501 et seq.), the information collection and recordkeeping requirements included in the interim rule were granted emergency approval by the Office of Management and Budget (OMB) under control number 0579-0166. OMB has approved the continuation of that approval for 3 years.

List of Subjects in 7 CFR Part 302

Agricultural commodities, Plant diseases, Plant pests, Plants (Agriculture), Quarantine, Transportation.

Accordingly, the interim rule establishing 7 CFR part 302 which was published at 66 FR 1015-1016 on January 5, 2001, is adopted as a final rule with the following changes:

PART 302—DISTRICT OF COLUMBIA; MOVEMENT OF PLANTS AND PLANT PRODUCTS

1. The authority citation for part 302 continues to read as follows:

Authority: 7 U.S.C. 7712, 7714, 7715, 7731, 7732, 7735, 7736, 7745, and 7754-7756; 7 CFR 2.22, 2.80, and 371.3.

2. Section 302.2 is revised to read as follows:

§ 302.2 Movement of plants and plant products

Inspection or documentation of the plant health status of plants or plant products to be moved interstate from the District of Columbia may be obtained by contacting the State Plant Health Director, Plant Protection and Quarantine, APHIS, Wayne A. Cawley, Jr. Building, Room 350, 50 Harry S. Truman Parkway, Annapolis, MD 21401-7080; phone: (410) 224-3452; fax: (410) 224-1142.

Done in Washington, DC, this 24th day of October 2001.
Bobby R. Acord,
Acting Administrator, Animal and Plant Health Inspection Service.

[FR Doc. 01-27262 Filed 10-29-01; 8:45 am]

BILLING CODE 3410-34-U